DEPARTMENT OF COMMERCE

National Oceanic and Atmospheric Administration

RIN 0648-XE870

New England Fishery Management Council; Public Meeting

AGENCY: National Marine Fisheries Service (NMFS), National Oceanic and Atmospheric Administration (NOAA), Commerce.

ACTION: Notice; public meeting.

SUMMARY: The New England Fishery Management Council (Council) is scheduling a public joint meeting of its Whiting Advisory Panel and Whiting Plan Development Team on October 6, 2016 to consider actions affecting New England fisheries in the exclusive economic zone (EEZ). Recommendations from this group will be brought to the full Council for formal consideration and action, if appropriate.

DATES: This meeting will be held on Thursday, October 6, 2016 at 9:30 a.m.

ADDRESSES: Meeting address: The meeting will be held at the Holiday Inn, 31 Hampshire Street, Mansfield, MA 02048; telephone: (508) 339-2200; fax: (508) 339-1040.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Advisory Panel and PDT will analyze potential small-mesh multispecies fishery limited access qualification criteria options as well as discuss other Amendment 22 alternatives. The panel and team will also discuss scheduling and priorities for 2017 and develop framework adjustment alternatives, if the Council initiates a framework adjustment at its September Council meeting in response to northern red hake exceeding its Annual Catch Limit. They will also address other business as necessary.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: September 7, 2016.
Tracey L. Thompson,
Acting Deputy Director, Office of Sustainable Fisheries, National Marine Fisheries Service.

[FR Doc. 2016-21907 Filed 9-12-16; 8:45 am]

BILLING CODE 3510-22-P